FEDERAL COMMUNICATIONS COMMISSION

Notice of Public Information Collection(s) Being Reviewed by the Federal Communications Commission

July 21, 2004.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before August 30, 2004. If you anticipate that you will be submitting comments, but find it difficult to do so within the period of time allowed by this notice, you should advise the contact listed below as soon as possible.

ADDRESSES: Direct all comments regarding this Paperwork Reduction Act submission to Judith B. Herman, Federal Communications Commission, Room 1-C804, 445 12th Street, SW., DC 20554 or via the Internet to Judith-B.Herman@fcc.gov.

FOR FURTHER INFORMATION CONTACT: For additional information or copies of the information collection(s), contact Judith B. Herman at 202-418-0214 or via the Internet at Judith-B.Herman@fcc.gov.

SUPPLEMENTARY INFORMATION: OMB Control No.: 3060-XXXX.

Title: Qualifications Questions.

Form No.: FCC Form 312-EZ.

Type of Review: New collection.

Respondents: Business or other for-profit.

Number of Respondents: 3,872.

Estimated Time Per Response: 10 hours.

Frequency of Response: On occasion reporting requirement.

Total Annual Burden: 38,720 hours.

Total Annual Cost: $9,874,000.

Privacy Act Impact Assessment: Not applicable.

Needs and Uses: FCC Form 312-EZ is currently approved under OMB Control Number 3060-0678. However, the Commission is now requesting a new, separate OMB Control Number in order to reduce the size of the information collection requirements that are in 3060-0678. Additionally, part 25 of the Commission's rules related to space stations and earth stations remain under 3060-0678. This FCC Form 312-EZ is used by earth station applicants. If an applicant can answer “yes” to the questions on the form, they can use the FCC Form 312-EZ (auto grant form). If the applicant cannot answer “yes” to those questions, then they must use FCC Form 312. The FCC Form 312-EZ has been developed to reduce the filing burden on applicants.

OMB Control No.: 3060-XXXX.

Title: Renewal of Application for Satellite Space and Earth Station Authorization.

Form No.: FCC Form 312-R.

Type of Review: New collection.

Respondents: Business or other for-profit.

Number of Respondents: 6.

Estimated Time Per Response: 2 hours.

Frequency of Response: On occasion reporting requirement.

Total Annual Burden: 12 hours.

Total Annual Cost: $2,100.

Privacy Act Impact Assessment: Not applicable.

Needs and Uses: FCC Form 312-R is currently approved under OMB Control Number 3060-0678. However, the Commission is now requesting a new, separate OMB Control Number in order to reduce the size of the information collection requirements that are in 3060-0678. Additionally, part 25 of the Commission's rules related to space stations and earth stations to renew their licenses. In the previous application filings with the Commission, the FCC Form 405 was used. The FCC Form 312-R now supersedes the FCC Form 405 and has been developed to reduce the filing burden on applicants. It allows electronic filings of renewals in the International Bureau Filing System (IBFS).

Federal Communications Commission.
William F. Caton,
Deputy Secretary.

[FR Doc. 04-17424 Filed 7-29-04; 8:45 am]

BILLING CODE 6712-01-P